DEPARTMENT OF HOMELAND SECURITY

Coast Guard

33 CFR Parts 100, 110, and 165

[Docket No. USCG-2016-0949]

RIN 1625-AA08; AA01, AA87

Special Local Regulation, Temporary Anchorages and Safety Zones: Sail Boston 2017; Port of Boston, MA

AGENCY: Coast Guard, DHS.

ACTION: Final rule.

SUMMARY: The Coast Guard is adopting a temporary special local regulation, multiple safety zones, and temporary spectator anchorages before, during, and after Sail Boston 2017 in the Port of Boston, Massachusetts, to be held between June 16, 2017 and June 22, 2017. These regulations are necessary to promote the safe navigation of vessels and the safety of life and property during this event.

DATES: This rule is effective without actual notice from May 24, 2017 until June 22, 2017, except that the suspension of § 110.138 is effective from 8:00 a.m. on June 16, 2017, through 4:00 p.m. on June 17, 2017. For the purposes of enforcement, actual notice will be used from the date the rule was signed, May 15, 2017, until May 24, 2017.

ADDRESSES: To view documents mentioned in this preamble as being available in the docket, go to http://www.regulations.gov, type USCG-2016-0949 in the “SEARCH” box and click “SEARCH.” Click on Open Docket Folder on the line associated with this rule.

FOR FURTHER INFORMATION CONTACT: If you have questions on this rule, call or email Mark Cutter, Sector Boston Waterways Management Division, U.S. Coast Guard; telephone 617-223-4000, email Mark.E.Cutter@uscg.mil.

SUPPLEMENTARY INFORMATION:

I. Table of Acronyms

CFR Code of Federal Regulations

COTP Captain of the Port

DHS Department of Homeland Security

FR Federal Register

NPRM Notice of Proposed Rulemaking

§ Section

TFR Temporary Final Rule

U.S.C. United States Code

II. Background Information and Regulatory History

On March 24, 2017, the Coast Guard published a NPRM titled “Special Local Regulations, Temporary Anchorages, and Safety Zones: Sail Boston 2017; Port of Boston, MA” (82 FR 15014). There we stated why we issued the NPRM, and invited comments on our regulatory action. During the comment period that ended on April 24, 2017, we received no comments.

The Coast Guard is making this temporary rule effective less than 30 days after publication in the Federal Register pursuant to authority under section 4(a) of the Administrative Procedure Act (APA) (5 U.S.C. 553(d)). This provision authorizes an agency to make a rule effective less than 30 days after publication for good cause. We are issuing this rule, and under 5 U.S.C. 553(d)(3), the Coast Guard finds that good cause exists for making it effective less than 30 days after publication in the Federal Register because waiting the 30 days would be impracticable and or contrary to the public interest. It would be impracticable and or contrary to the public interest because the Sail Boston 2017 events will be taking place starting on a definite date of June 16, 2017, and if this rule is not made effective by the date then it would inhibit the Coast Guard's ability to perform its statutory mission to ensure the safety of the maritime public.

III. Legal Authority and Need for Rule

The Coast Guard is issuing this rule under authority in 33 U.S.C. 471, 1221 through 1236, 2071 50 U.S.C. 191 and Department of Homeland Security Delegation No. 0170.1, which collectively authorize the Coast Guard to establish safety zones, anchorages and special local regulations.

The Captain of the Port (COTP) Boston has determined that this rule will provide for the safety of life on navigable waters and to protect the participating Tall Ships, private vessels, spectators, and the Port of Boston during Sail Boston 2017.

IV. Discussion of Comments, Changes, and the Rule

As noted above, we received no comments on our NPRM published on March 24, 2017. The only change from the NPRM is that we added a “NOTE” following the regulatory text to advise the public that Boston Harbor is a “NO-DISCHARGE ZONE.” This rule adopts a temporary special local regulation, multiple safety zones, and temporary spectator anchorage grounds before, during and after Sail Boston 2017.

Temporary Spectator Anchorage Grounds

The Coast Guard will add temporary section 110.T01-0949 to establish thirteen temporary spectator anchorage grounds for spectator craft for the arrival of the participating Tall Ships on June 16, 2017 and the Sail Boston 2017 Parade of Tall Ships on June 17, 2017. This rule also includes the temporary suspension of 33 CFR 110.138, the Boston Harbor, Massachusetts anchorage ground, during the periods the new spectator anchorage grounds and regulations are temporarily established.

The anchorage regulations would temporarily establish spectator anchorage grounds for recreational, special use, fishing, and commercial vessels during the Sail Boston 2017 Parade of Tall Ships.

Special Local Regulations

In 1992, 2000, 2009, and 2012, similar events, including Sail Boston 1992, 2000, 2009, and War of 1812 in 2012, drew several hundred thousand spectators by land, as well as water, to Boston Harbor.

Recognizing the significant amount of recreational boating traffic this event is expected to draw, the Coast Guard will establish a special local regulation that would create vessel movement control measures in Boston Harbor that will be in effect during the entirety of the Sail Boston 2017 event. This section would be designated as section 100.T01-0949.

The special local regulation is needed to control vessel movement in order to facilitate timely law enforcement support vessels access to Maritime and transportation facilities. Additionally, the regulated areas will protect the maritime public and participating vessels from possible hazards to navigation associated with dense vessel traffic.

Safety Zones

The Coast Guard is establishing safety zones in section 165.T01-0949. On June 16, 2017, tall ships participating in the parade of sail will rally in Broad Sound. The Coast Guard is establishing a 100-yard safety zone surrounding participating Tall Ships while they are anchored in Broad Sound. The regulation would be enforced from June 16 to June 17.

V. Regulatory Analyses

We developed this rule after considering numerous statutes and executive orders related to rulemaking. Below we summarize our analyses based on a number of these statutes and Executive orders and we discuss First Amendment rights of protestors.

A. Regulatory Planning and Review

Executive Orders 12866 and 13563 direct agencies to assess the costs and benefits of available regulatory alternatives and, if regulation is necessary, to select regulatory approaches that maximize net benefits. Executive Order 13563 emphasizes the importance of quantifying both costs and benefits, of reducing costs, of harmonizing rules, and of promoting flexibility. This rule has not been designated a “significant regulatory action,” under Executive Order 12866. Accordingly, this rule has not been reviewed by the Office of Management and Budget.

Although this regulation imposes temporary spectator anchorages, traffic control measures, and safety zones in portions of Boston Harbor during the events, the effect of this regulation will not be significant for the following reasons: Vessels needing to depart the temporary spectator anchorages may do so with permission from the COTP's designated on-scene representative and vessels will have sufficient transit room around the outer edge of the designated anchorages. The traffic control measures are confined to areas of minimal distance, they follow the natural flow of Boston Harbor traffic, they are in compliance with the navigational rules of the road, and crossovers have been established for vessels wanting to change direction. The 25-yard safety zone around participating Tall Ships while moored will have no impact to vessel movement in Boston Harbor and will only be in place during the 5 days of Sail Boston activities. Sail Boston, Inc. over the past 6 months has held multiple public meetings discussing Sail Boston 2017 events and during each meeting, these proposals have been discussed. An extensive advance notice will be made to mariners via appropriate means, which may include broadcast notice to mariners, local notice to mariners, facsimile, marine safety information bulletin, local Port Operators Group meetings, Harbor Safety Committee meetings, the Internet, USCG Sector Boston Homeport Web page, handouts, and local newspapers and media. The advance notice will permit mariners to adjust their plans accordingly. Similar restrictions were established for other Sail Boston events in 1992, 2000, 2009, and War of 1812 in 2012. Based upon the Coast Guard's experiences from those previous events of similar magnitude, these regulations have been narrowly tailored to impose the least impact on maritime interests while providing the necessary level of safety.

B. Impact on Small Entities

The Regulatory Flexibility Act of 1980, 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule does not have a significant economic impact on a substantial number of small entities.

While some owners or operators of vessels intending to transit Boston Harbor may be small entities, for the reasons stated in section V.A above this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of federal employees who enforce, or otherwise determine compliance with, federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule does not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section.

E. Unfunded Mandates Reform Act

The Unfunded Mandates Reform Act of 1995 (2 U.S.C. 1531-1538) requires federal agencies to assess the effects of their discretionary regulatory actions. In particular, the Act addresses actions that may result in the expenditure by a State, local, or tribal government, in the aggregate, or by the private sector of $100,000,000 (adjusted for inflation) or more in any one year. Though this rule does not result in such an expenditure, we do discuss the effects of this rule elsewhere in this preamble.

F. Environment

We have analyzed this rule under Department of Homeland Security Management Directive 023-01 and Commandant Instruction M16475.lD, which guide the Coast Guard in complying with the National Environmental Policy Act of 1969 (42 U.S.C. 4321-4370f), and have determined that this action is one of a category of actions that do not individually or cumulatively have a significant effect on the human environment. This rule involves suspending permanent anchorages, establishing temporary spectator anchorages, establishing temporary safety zones, and traffic control measures to facilitate the safety of all vessels participating, watching the Parade of Tall Ships and the viewing of the moored Tall Ships during the Sail Boston 2017 event. These actions are categorically excluded from further review under paragraph 34 (f), (g), and (h) of Figure 2-1 of Commandant Instruction M16475.lD. A Record of Environmental Consideration (REC) supporting this determination is available in the docket where indicated under ADDRESSES.

G. Protest Activities

The Coast Guard respects the First Amendment rights of protesters. Protesters are asked to contact the person listed in the FOR FURTHER INFORMATION CONTACT section to coordinate protest activities so that your message can be received without jeopardizing the safety or security of people, places, or vessels.

List of Subjects

33 CFR Part 100

Marine safety, Navigation (water), Reporting and recordkeeping requirements, and Waterways.

33 CFR Part 110

Anchorage grounds.

33 CFR Part 165

Harbors, Marine safety, Navigation (water), Reporting and recordkeeping requirements, Security measures, Waterways.

For the reasons discussed in the preamble, the Coast Guard amends 33 CFR parts 100, 110, and 165 as follows:

PART 100—SAFETY OF LIFE ON NAVIGABLE WATERS

1. The authority citation for part 100 continues to read as follows:

Authority: 33 U.S.C. 1233.

2. Add § 100.T01-0949 to read as follows:

§ 100.T01-0949 Special Local Regulation: Sail Boston 2017; Port of Boston, MA.

(a) Location: This special local regulation establishes a regulated area to include all waters west of a line drawn from the monument at Castle Island in approximate position 42°20′21″ N., 71°00′37″ W., to the Logan Airport Security Zone Buoy “24” in approximate position 42°20′45″ N., 71°00′29″ W., and then to land in approximate position 42°20′48″ N., 71°00′27″ W., including the Reserved Channel to the Summer Street retractile bridge in approximate position 42°20′34″ N., 71°02′11″ W., the Charles River to the Gridley Locks at the Charles River Dam in approximate position 42°22′07″ N., 71°03′40″ W., the Mystic River at the Alford Street Bridge in approximate position 42°23′22″ N., 71°04′16″ W., and the Chelsea River to the McArdle Bridge in approximate position 42°23′09″ N., 71°02′21″ W.

(b) Special Local Regulations. (1) During the effective period, vessel operators transiting through the regulated area shall proceed in a counterclockwise direction at no wake speeds not to exceed five knots, unless otherwise authorized by the Captain of the Port.

(2) Vessel operators shall comply with the directions and orders of the COTP or the COTP's representative, upon being hailed by siren, radio, flashing lights, or other means. The COTP's representative may be any Coast Guard commissioned, warrant, or petty officer or any federal, state, or local law enforcement officer who has been designated by the COTP to act on the COTP's behalf. The COTP's representative may be on a Coast Guard vessel, a Coast Guard Auxiliary vessel, a federal, state or local law enforcement or safety vessel, or a location on shore.

(3) From 4 p.m. on June 17, 2017 through 8 a.m. on June 22, 2017, vessel control measures will be implemented. The traffic pattern will be in a counterclockwise rotation, such that all vessels shall stay generally as far to the starboard side of the channel as is safe and practicable.

(4) To facilitate commercial ferry traffic with minimal disruption, commercial ferries within the regulated area, moving between stops on their normal routes, will be exempt from the mandatory counterclockwise traffic pattern. This exemption does not give ferries navigational precedence or in any way alter their responsibilities under the Rules of the Road or any other pertinent regulations.

(5) Vessel operators transiting the waterway between the World Trade Center and Fish Pier must enter and keep to the starboard side of the channel, proceeding as directed by the on-scene COTP's representative. Vessel traffic shall move in a counterclockwise direction around a turning point as marked by an appropriate on-scene COTP's representative.

(6) Vessel operators transiting this area must maintain at least a twenty five (25) yard safe distance from all participating Sail Boston Tall Ships and must make way for all deep draft vessel traffic underway in the area.

(7) When a vessel greater than 125 feet enters the waterway between the World Trade Center and the Fish Pier, no other vessel will be allowed to enter until the larger vessel departs that area, unless authorized by the on-scene COTP's representative.

(8) From 10 p.m. through 8 a.m. daily, while the regulated area is in effect, only vessels which are tenants within the channels of the World Trade Center and the Fish Pier will be authorized access.

(9) The COTP may control the movement of all vessels operating on the navigable waters of Boston Harbor when the COTP has determined that such orders are justified in the interest of safety by reason of weather, visibility, sea conditions, temporary port congestion, or other temporary hazards circumstance.

(10) To obtain permissions required by this regulation, individuals may reach the COTP or a COTP representative via VHF channel 16 or 617-223-5757 (Sector Boston Command Center).

(11) Penalties. Those who violate this section are subject to the penalties set forth in 33 U.S.C. 1232 and 50 U.S.C. 192.

(c) Enforcement period. This regulation is will be enforced from 4 p.m. on June 17, 2017 through 8 a.m. on June 22, 2017.

PART 110—ANCHORAGE REGULATIONS

3. The authority citation for part 110 continues to read as follows:

Authority: 33 U.S.C. 471; 33 U.S.C. 1221 through 1236, 2071; 33 CFR 1.05-1; Department of Homeland Security Delegation No. 0170.1.

§ 110.138 [Suspended]

4. From 8:00 a.m. on June 16, 2017, through 4:00 p.m. on June 17, 2017, suspend § 110.138.

5. Add § 110.T01-0949 to read as follows:

§ 110.T01-0949 Temporary Anchorages: Sail Boston 2017; Port of Boston, MA.

(a) Anchorages. All anchorages in this paragraph are applicable as specified. Vessel operators using the anchorages in this paragraph must comply with the general operational requirements specified in paragraph (b) and (c) of this section. All coordinates are NAD 1983.

(1) Anchorage 1. (i). All waters bounded by the following coordinates: 42°22′06″ N./071°02′43″ W., 42°22′11″ N./071°02′39″ W., 42°22′07″ N./071°02′32″ W., and 42°22′03″ N./071°02′35″ W.

(ii) This anchorage ground is designated for the exclusive use of recreational vessels that are 45 feet or less in length and have superstructures that do not exceed 10 feet in height.

(2) Anchorage 2. (i) All waters bounded by the following coordinates: 42°21′41″ N./071°02′25″ W., 42°21′47″ N./071°02′20″ W., 42°21′35″ N./071°01′53″ W., and 42°21′29″ N./071°01′58″ W.

(ii) This anchorage ground is designated for the exclusive use of recreational vessels that are 45 feet or less in length and have superstructures that do not exceed 10 feet in height.

(3) Anchorage 3. (i) All waters bounded by the following coordinates: 42°21′26″ N./071°01′51″ W., 42°21′32″ N./071°01′47″ W., 42°21′25″ N./071°01′33″ W., and 42°21′19″ N./071°01′37″.

(ii) This anchorage ground is designated for the exclusive use of recreational vessels that are 45 feet or less in length and their height above water does not to exceed 50 feet.

(4) Anchorage 4. (i) All waters bounded by the following coordinates: 42°21′19″ N./071°01′37″ W., 42°21′25″ N./071°01′33″ W., 42°21′09″ N./071°01′02″ W., and 42°21′04″ N./071°01′06″.

(ii) This anchorage ground is designated for the exclusive use of inspected and uninspected small passenger vessels (certificated by the Coast Guard under subchapters T and K of chapter I of title 46, Code of Federal Regulations), and charter vessels that do not exceed 50 feet in height above the water line.

(5) Anchorage 5. (i) All waters bounded by the following coordinates: 42°21′04″ N./071°01′06″ W., 42°21′09″ N./071°01′02″ W., 42°20′48″ N./071°00′29″ W., and 42°20′47″ N./071°00′29″.

(ii) This anchorage ground is designated for the exclusive use of inspected and uninspected small passenger vessels (certificated by the Coast Guard under subchapters T and K of chapter I of title 46, Code of Federal Regulations), and charter vessels that do not exceed 50 feet in height above the water line.

(6) Anchorage 6. (i) All waters bounded by the following coordinates: 42°20′09″ N./070°59′39″ W., 42°20′23″ N./070°59′32″ W., 42°20′19″ N./071°59′17″ W., and 42°20′07″ N./070°59′24″.

(ii) This anchorage ground is designated for the exclusive use of recreational vessels.

(7) Anchorage 7. (i) All waters bounded by the following coordinates: 42°20′06″ N./070°59′23″ W., 42°20′36″ N./070°59′06″ W., 42°20′34″ N./070°58′31″ W., and 42°20′05″ N./070°58′45″.

(ii) This anchorage ground is designated for the exclusive use of recreational vessels.

(8) Anchorage 8. (i) All waters bounded by the following coordinates: 42°20′06″ N./070°58′43″ W., 42°20′35″ N./070°58′28″ W., 42°20′33″ N./070°57′29″ W., and 42°20′05″ N./070°57′31″.

(ii) This anchorage ground is designated a general anchorage with no restrictions.

(9) Anchorage 9. (i) All waters bounded by the following coordinates: 42°19′45″ N./070°59′55″ W., 42°19′58″ N./070°59′55″ W., 42°19′57″ N./070°58′47″ W., and 42°19′44″ N./070°58′47″.

(ii) This anchorage ground is designated as general transient anchorage for all vessels that do not exceed 50 feet in height above the water line, with no overnight anchoring. This anchorage is only applicable from 6 a.m. on June 17, 2017 until 4 p.m. on June 17, 2017.

(10) Anchorage 10. (i) All waters bounded by the following coordinates: 42°19′44″ N./070°58′44″ W., 42°19′58″ N./070°58′47″ W., 42°19′55″ N./070°57′28″ W., and 42°19′43″ N./070°57′35″.

(ii) This anchorage ground is designated for the exclusive use of recreational vessels with no overnight anchoring. This anchorage is only applicable from 6 a.m. on June 17, 2017 until 4 p.m. on June 17, 2017.

(11) Anchorage 11. (i) All waters bounded by the following coordinates: 42°20′30″ N./070°56′30″ W., 42°21′58″ N./070°56′05″ W., and 42°21′32″ N./070°55′27″.

(ii) This anchorage ground is designated for the exclusive use of late arriving recreational vessels and no overnight anchoring. This anchorage is only applicable from 6 a.m. on June 17, 2017 until 4 p.m. on June 17, 2017.

(12) Anchorage 12. (i) All waters bounded by the following coordinates: 42°20′07″ N./070°56′28″ W., 42°21′43″ N./070°54′51″ W., 42°21′18″ N./070°54′29″ W., and 42°20′05″ N./070°55′51″.

(ii) This anchorage ground is designated for the exclusive use of late arriving recreational vessels and no overnight anchoring. This anchorage is only applicable from 6 a.m. on June 17, 2017 until 4 p.m. on June 17, 2017.

(13) Anchorage 13. (i) All waters bounded by the following coordinates: 42°19′55″ N./070°56′40″ W., 42°20′06″ N./070°56′28″ W., 42°20′05″ N./070°55′51″ W., and 42°19′51″ N./070°56′05″.

(ii) This anchorage ground is designated for the exclusive use of inspected and uninspected small passenger vessels (certificated by the Coast Guard under subchapters T and K of chapter I of title 46, Code of Federal Regulations), and charter vessels. This anchorage is only applicable from 6 a.m. on June 17, 2017 until 4 p.m. on June 17, 2017.

(b) The regulations. The anchorages designated in paragraphs (a)(1) through (13) of this section are subject to the following regulations:

(1) General Operational Requirements for all anchorages. Vessel operators using any of the anchorages established in this section shall:

(i) Ensure their vessels are properly anchored and remain safely in position at anchor during marine events.

(ii) Vessel operators shall comply with the directions and orders of the COTP or the COTP's representatives, upon being hailed by siren, radio, flashing lights, or other means. The COTP's representative may be any Coast Guard commissioned, warrant, or petty officer or any federal, state, or local law enforcement officer who has been designated by the COTP to act on the COTP's behalf. The COTP's representative may be on a Coast Guard vessel, a Coast Guard Auxiliary vessel, a Federal, state, or local law enforcement or safety vessel, or a location on shore.

(iii) Vacate anchorages after termination of their effective periods.

(iv) Buoy with identifiable markers and release anchors fouled on lobster trap lines if such anchors cannot be freed or raised.

(v) Display anchor lights when anchoring at night in any anchorage.

(vi) Do not leave vessels unattended in any anchorage at any time.

(vii) Do not tie off to any aid to navigation or buoy.

(ix) Maintain at least 20 feet of clearance if maneuvering between anchored vessels.

(x) Do not nest or tie off to other vessels in that anchorage.

(xi) Based on COTP approval and direction, vessels commercially engaged in the collection and legal disposal of marine sewage may operate within spectator anchorages during the applicable periods.

(2) [Reserved]

(c) Enforcement dates. This section will be enforced from 8:00 a.m. on June 16, 2017 through 4:00 p.m. on June 17, 2017 unless otherwise noted.

Note 1 to § 110.T01-0949: Caution: The designated spectator anchorages in this section have not been specially surveyed or inspected and navigational charts may not show all seabed obstructions or shallowest depths. Additionally, the anchorages are in areas of substantial currents. Mariners who use these temporary anchorages should take appropriate precautions, including using all means available to ensure vessels are not dragging anchor.

PART 165—REGULATED NAVIGATION AREAS AND LIMITED ACCESS AREAS

6. The authority citation for part 165 continues to read as follows:

Authority: 33 U.S.C. 1231; 50 U.S.C. 191; 33 CFR 1.05-1, 6.04-1, 6.04-6, and 160.5; Department of Homeland Security Delegation No. 0170.1.

7. Add § 165.T01-0949 to read as follows:

§ 165.T01-0949 Safety Zone: Sail Boston 2017; Port of Boston, MA.

(a) Location. The following are safety zones (all coordinates are NAD 1983):

(1) All navigable waters from surface to bottom, within a 100-yard radius of each participating Tall Ship while anchored in Broad Sound.

(2) All navigable waters from surface to bottom, within 1000-yards ahead and astern and 100-yards on each side of participating Tall Ships, during their transit from anchorage to mooring.

(3) All navigable waters from surface to bottom, within 25-yards surrounding participating Tall Ships while moored at various locations throughout the Port of Boston.

(4) All navigable waters from surface to bottom, bounded within the following points (NAD 83): From 42°39.00″ N., 070°26.00″ W., thence to 42°39.00″ N., 070°24.00″ W., thence to 42°38.00″ N., 070°24.00″ W., thence to 42°38.00″ N., 070°26.00″ W., thence to the first point.

(b) Regulations. While these safety zones are being enforced, the following regulations, along with those contained in 33 CFR 165.23, apply:

(1) No person or vessel may enter or remain in a safety zone without the permission of the COTP, Sector Boston or the COTP's representative.

(2) Any person or vessel permitted to enter the safety zones shall comply with the directions and orders of the COTP or the COTP's representative. Upon being hailed by siren, radio, flashing lights, or other means, the operator of a vessel within the zone shall proceed as directed. Any person or vessel within the security zone shall exit the zone when directed by the COTP or the COTP's representative.

(3) To obtain permissions required by this regulation, individuals may reach the COTP or a COTP representative via VHF channel 16 or 617-223-5757 (Sector Boston Command Center) to obtain permission.

(4) Penalties. Those who violate this section are subject to the penalties set forth in 33 U.S.C. 1232 and 50 U.S.C. 192.

(c) COTP Representative. The COTP's representative may be any Coast Guard commissioned, warrant, or petty officer or any federal, state, or local law enforcement officer who has been designated by the COTP to act on the COTP's behalf. The COTP's representative may be on a Coast Guard vessel, a Coast Guard Auxiliary vessel, federal, state, or local law enforcement or safety vessel, or a location on shore.

(d) Enforcement dates. Paragraph (a)(1) of this section is applicable on June 16, 2017 through June 17, 2017. Paragraph (a)(2) of this section is applicable on June 17, 2017. Paragraph (a)(3) of this section is applicable on June 17, 2017 through June 22, 2017. Paragraph (a)(4) of this section is applicable on June 22, 2017 from 4 p.m. until 8 p.m.

Note 1 to § 165.T01-0949: Boston Harbor is a NO-DISCHARGE ZONE. No-discharge zones are designated bodies of water where the discharge of all boat sewage, whether treated or not, is prohibited and a violation of federal law. Boat pumpout facilities provide a convenient way to properly dispose of boat sewage. Many of the pumpouts in this area are pumpout vessels. These vessels have the capacity to bring the pumpout to the boater. In order to facilitate compliance with this no-discharge zone, the pumpout vessels will be allowed to maneuver through the regulated zones and anchorages grounds. For additional information on complying with vessel sewage discharge regulations and using pumpout facilities see http://www.mass.gov/eea/agencies/czm/program-areas/coastal-water-quality/ndz/.

Dated: May 15, 2017.
C.C. Gelzer,
Captain, U.S. Coast Guard, Captain of the Port Boston.

[FR Doc. 2017-10336 Filed 5-23-17; 8:45 am]

BILLING CODE 9110-04-P